DEPARTMENT OF LABOR

Employment and Training Administration

[TA-W-57,121]

J.E. Morgan Knitting Mills (Sara Lee) Tamaqua, PA; Notice of Termination of Investigation

Pursuant to Section 221 of the Trade Act of 1974, an investigation was initiated on May 5, 2005 in response to a petition filed by a company official on behalf of workers at J.E. Morgan Knitting Mills (Sara Lee), Tamaqua, Pennsylvania.

The petitioner has requested that the petition be withdrawn. Consequently, the investigation has been terminated.

Signed in Washington, DC, this 17th day of June, 2005.
Elliott S. Kushner,
Certifying Officer, Division of Trade Adjustment Assistance.

[FR Doc. E5-3741 Filed 7-13-05; 8:45 am]

BILLING CODE 4510-30-P